DEPARTMENT OF AGRICULTURE

Office of the Secretary

Privacy Act of 1974; System of Records

AGENCY: Office of the Secretary, USDA.

ACTION: Notice of Revision of Privacy Act Systems of Records.

SUMMARY: Notice is hereby given that the United States Department of Agriculture (USDA) is revising one Privacy Act (PA) system of records and deleting two systems of records maintained by the Agricultural Research Service (ARS).

EFFECTIVE DATE: This notice will be adopted without further publication in the Federal Register on July 28, 2010 unless modified by a subsequent notice to incorporate comments received from the public. Comments must be received by the contact person listed below on or before July 19, 2010.

FOR FURTHER INFORMATION CONTACT: Stasia Hutchison, FOIA/PA Officer, ARS, REE, USDA, 5601 Sunnyside Avenue, Beltsville, MD 20705-5128; Telephone (301) 504-1655; Facsimile (301) 504-1647; Electronic Mail stasia.hutchison@ars.usda.gov.

SUPPLEMENTARY INFORMATION: Pursuant to the PA, 5 U.S.C. 552a, USDA hereby takes the following action:

I. One system of records is being revised for the following reasons:

1. USDA/ARS-2, Research Medical Records System on Patients and Human Volunteers Participating in Research at the ARS Human Nutrition Research Centers in Grand Forks, Beltsville, and San Francisco, USDA/ARS is being revised. The purpose of this revision to the system of records is to change the system designation from USDA/ARS-2 to USDA/ARS-1; identify changes in the system name, system location, and categories of individuals covered by the system; update the purpose, safeguards, retention and disposal, system manager and address, and record access procedures; modify the routine uses by adding three relating to security breaches, disclosure to National Archives and Records Administration, and disclosure to contractors; and to add the following sections: security classification, agency official responsible for system of records, disclosure to consumer reporting agencies, and exemptions claimed for the system.

II. Two systems are being deleted as follows:

1. USDA/ARS-1, Solicitation of Bids or Proposals for Procurement Contracts, is being deleted as the records no longer meet the requirements for a Privacy Act system of records. USDA/ARS-5, ARS Health and Fitness Center, is being deleted as the records are no longer relevant and necessary to accomplish a purpose of the Agency. The records no longer exist. A Privacy Act Systems Report relating to the proposed changes was sent to the Administrator, Office of Information and Regulatory Affairs, Office of Management and Budget; Chairman, Committee on Homeland Security and Governmental Affairs, United States Senate; and Chairman, Committee on Oversight and Government Reform, U.S. House of Representatives on June 9, 2010.

Signed at Washington, DC, on June 9, 2010.
Thomas J. Vilsack,
Secretary of Agriculture.

[FR Doc. 2010-14714 Filed 6-17-10; 8:45 am]

BILLING CODE 3410-03-P